DEPARTMENT OF JUSTICE

[OMB Number 1140-0101]

Agency Information Collection Activities; Proposed eCollection eComments Requested; New Collection: Death in Custody Reporting Act Collection

AGENCY: Bureau of Justice Assistance, Department of Justice.

ACTION: 30-Day notice.

SUMMARY: The Department of Justice (DOJ), Bureau of Justice Assistance will be submitting the following information collection request to the Office of Management and Budget (OMB) for review and approval in accordance with the Paperwork Reduction Act of 1995. The Death in Custody Reporting Act (DCRA) requires states and federal law enforcement agencies to report certain information to the Attorney General regarding the death of any person occurring during interactions with law enforcement officers or while in custody. It further requires the Attorney General and the Department of Justice (Department) to collect the information, establish guidelines on how it should be reported, annually determine whether each state has complied with the reporting requirements, and address any state's noncompliance.

DATES: Comments are encouraged and will be accepted for 30 days until September 28, 2018.

FOR FURTHER INFORMATION CONTACT: If you have additional comments especially on the estimated public burden or associated response time, suggestions, or need a copy of the proposed information collection instrument with instructions or additional information, please contact Chris Casto, Bureau of Justice Assistance, 810 Seventh Street NW, Washington, DC 20531 (email: DICRAComments@usdoj.gov); telephone: 202-616-6500.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection (check justification or form 83): New Collection.

The Title of the Form/Collection: Death in Custody Reporting Act Collection.

(2) The agency form number, if any, and the applicable component of the Department sponsoring the collection: Form number (if applicable): DCR-1.

Quarterly Summary. This summary form requires States to either (1) identify all reportable deaths that occurred in their jurisdiction during the corresponding quarter and provide basic information about the circumstances of the death, or (2) affirm that no reportable death occurred in the State during the reporting period.

For each quarter in a fiscal year, a State must complete the Quarterly Summary (Form DCR-1) and submit it by the reporting deadline. The Quarterly Summary is a list of all reportable deaths that occurred in the State during the corresponding quarter with basic information about the circumstances of each death. If a State did not have a reportable death during the quarter, the State must so indicate on the Quarterly Summary. The reporting deadline to submit the Quarterly Summary is the last day of the month following the close of the quarter. For each quarter, BJA will send two reminders prior to the reporting deadline.

Example. The second quarter of a fiscal year is January 1—March 31. The deadline to submit the second quarter Quarterly Summary is April 30. BJA will send a reminder to States on March 31 and April 15.

Component: Bureau Justice Assistance, U.S. Department of Justice.

Form number (if applicable): DCR-1A

Incident Report. This incident report form requires States to provide additional information for each reportable death identified in the Quarterly Summary that occurred during interactions with law enforcement personnel or while in their custody.

For each reportable death identified in the Quarterly Summary, a State must complete and submit by the same reporting deadline an Incident Report (Form DCR-1A), which contains specific information on the circumstances of the death and additional characteristics of the decedent. These include:

• The decedent's name, date of birth, gender, race, and ethnicity.

• The date, time, and location of the death.

• The law enforcement or correctional agency involved.

• Manner of death.

States must answer all questions on the Incident Report before they can submit the form. If the State does not have sufficient information to complete one of the questions, then the State may select the “unknown” answer, if available, and then identify when the information is anticipated to be obtained.

Component: Bureau Justice Assistance, U.S. Department of Justice.

Affected public who will be asked or required to respond, as well as a brief abstract: Primary: State, Local, or Tribal Government.

Abstract: In order to comply with the mandate of the DCRA, the Department of Justice, Bureau of Justice Assistance, is proposing a new data collection for State Administering Agencies to collect and submit information regarding the death of any person who is detained, under arrest, or is in the process of being arrested, is en route to be incarcerated, or is incarcerated at a municipal or county jail, State prison, State-run boot camp prison, boot camp prison that is contracted out by the State, any State or local contract facility, or other local or State correctional facility (including any juvenile facility).

(3) An estimate of the total number of respondents and the amount of time estimated for an average respondent to respond: For purposes of this collection, the term “State” includes any State of the United States, the District of Columbia, the Commonwealth of Puerto Rico, the Virgin Islands, American Samoa, Guam, and the Northern Mariana Islands. Thus, the affected public that will be asked to respond on a quarterly basis each federal fiscal year includes 56 State and Territorial actors. These States will be requesting information from approximately 19,450 State and local law enforcement agencies (LEAs), 56 State and Territorial departments of corrections, and 2,800 local adult jail jurisdictions.

(4) An estimate of the total public burden (in hours) associated with the collection: For purposes of this burden calculation, it is estimated that for each fiscal year there will be a total of 1900 reportable deaths by 1,060 LEAs, 1,053 reportable deaths by 600 jails, and 3,483 reportable deaths by prisons.

For FY 2020 and beyond, the total projected respondent burden is 13,756.49 hours. States will need an estimated 4.00 hours to complete each Quarterly Summary for a total of 4,480.00 hours, 0.25 hours to complete each corresponding Incident Reports (DCR-1A) for a total of 1,713.49 hours. For LEAs, the estimated burden to assist States in completing the Quarterly Summaries is 0.40 hours per Report for a total of 1,696.00 hours, and a total of 1,425.00 hours, at 0.75 hours for each corresponding Incident Report. The estimated burden for jails is a total of 960.00 hours to assist States in completing the Quarterly Summaries and 789.75 hours in completing Incident Reports. Finally, the estimated burden for prisons to assist States in completing the Quarterly Summaries is a total of 80.00 hours, and a total of 2,612.25 hours to assist States in completing Incident Reports.

If additional information is required contact: Melody Braswell, Department Clearance Officer, United States Department of Justice, Justice Management Division, Policy and Planning Staff, Two Constitution Square, 145 N Street NE, 3E.405A, Washington, DC 20530.

Dated: August 24, 2018.
Melody Braswell,
Department Clearance Officer for PRA, U.S. Department of Justice.

[FR Doc. 2018-18700 Filed 8-28-18; 8:45 am]

BILLING CODE 4410-FY-P